ENVIRONMENTAL PROTECTION AGENCY

40 CFR Part 52

[EPA-R03-OAR-2008-0109; FRL-8694-8]

Determination of Attainment for the Ozone National Ambient Air Quality Standards for Nonattainment Areas in Delaware, District of Columbia, Maryland, Pennsylvania, and Virginia

AGENCY: Environmental Protection Agency (EPA).

ACTION: Final rule.

SUMMARY: EPA has determined that two severe 1-hour ozone nonattainment areas, Philadelphia-Wilmington-Trenton, and the Metropolitan Washington, DC, attained the 1-hour ozone National Ambient Air Quality Standards (NAAQS) by the applicable attainment date of November 15, 2005. EPA has also determined that these areas are not subject to the imposition of the penalty fees under section 185 of the Clean Air Act (CAA). These determinations of attainment are not a redesignation to attainment for these severe areas for which air quality monitoring data indicates attainment of the standard. EPA is issuing this final action to fulfill obligations to make such determinations under the CAA.

DATES: Effective Date: This final rule is effective on August 25, 2008.

ADDRESSES: EPA has established a docket for this action under Docket ID Number EPA-R03-OAR-2008-0109. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Protection Division, U.S. Environmental Protection Agency, Region III, 1650 Arch Street, Philadelphia, Pennsylvania 19103.

FOR FURTHER INFORMATION CONTACT: Christopher Cripps, (215) 814-2179, or by e-mail at cripps.christopher@epa.gov.

SUPPLEMENTARY INFORMATION: Throughout this document, “we,” “us,” and “our” refer to EPA.

I. Background

On April 28, 2008, (73 FR 22896), EPA published a notice of proposed rulemaking (NPR) for these actions. The NPR proposed to determine that two severe 1-hour ozone nonattainment areas, Philadelphia-Wilmington-Trenton, and Metropolitan Washington, DC, attained the 1-hour ozone NAAQS by the applicable attainment date of November 15, 2005, and, proposed to find that these areas are not subject to the imposition of the penalty fees under section 185 of the CAA. These proposals were based on three years of complete, quality-assured ambient air quality monitoring data for 2003 through 2005 ozone seasons. These proposed determinations of attainment were not a redesignation to attainment for these severe areas for which air quality monitoring data indicates attainment of the standard.

We received two letters supporting the proposed actions and received no adverse public comments on the NPR. The background for this action, the requirements of section 185 of the CAA, and the rationale for EPA's proposed action are explained in the NPR and will not be restated here.

The geographic boundaries of each nonattainment area affected by this action can be found in the NPR (73 FR 22896 at 22896-22897, April 28, 2008). See also, the tables entitled “Ozone (1-Hour Standard)” in the following sections of 40 CFR part 81: §§ 81.308, 81.309, 81.321, 81.339 and 81.347 for Delaware, the District of Columbia, Maryland, Pennsylvania, and Virginia, respectively. Note that for each State the codification of these determinations in 40 CFR part 52 the name of the 1-hour severe ozone nonattainment area used is the name of that area as it appears in the table entitled “Ozone (1-Hour Standard)” in 40 CFR part 81 for that State.

II. Final Action

A. Philadelphia Area

Based upon EPA's review of the air quality data for the 3-year period 2003 to 2005, EPA has determined that the Philadelphia-Wilmington-Trenton, severe 1-hour ozone nonattainment area attained the 1-hour ozone NAAQS by the applicable attainment date of November 15, 2005. EPA also has determined that this area is not subject to the imposition of the section 185 penalty fees.

B. Washington Area

Based upon EPA's review of the air quality data for the 3-year period 2003 to 2005, EPA has determined that the Metropolitan Washington, DC, severe 1-hour ozone nonattainment area attained the 1-hour ozone NAAQS by the applicable attainment date of November 15, 2005. EPA also has determined that this area is not subject to the imposition of the section 185 penalty fees.

IV. Statutory and Executive Order Reviews

A. General Requirements

Under Executive Order 12866 (58 FR 51735, October 4, 1993), this final action is not a “significant regulatory action” and therefore is not subject to review by the Office of Management and Budget. For this reason, this action is also not subject to Executive Order 13211, “Actions Concerning Regulations That Significantly Affect Energy Supply, Distribution, or Use” (66 Fed. Reg. 28355 (May 22, 2001)). This final action determines that two areas have attained a previously-established NAAQS based on an objective review of measured air quality data and imposes no additional requirements. Accordingly, the Administrator certifies that these final rules will not have a significant economic impact on a substantial number of small entities under the Regulatory Flexibility Act (5 U.S.C. 601 et. seq.). Because these rules do not impose any additional enforceable duties, they do not contain any unfunded mandate or significantly or uniquely affect small governments, as described in the Unfunded Mandates Reform Act of 1995 (Pub. L. 104-4). These final rules also do not have a substantial direct effect on one or more Indian tribes, on the relationship between the Federal Government and Indian tribes, or on the distribution of power and responsibilities between the Federal Government and Indian tribes, as specified by Executive Order 13175 (65 FR 67249, November 9, 2000), nor will they have substantial direct effects on the States, on the relationship between the national government and the States, or on the distribution of power and responsibilities among the various levels of government, as specified in Executive Order 13132 (64 FR 43255, August 10, 1999), because these final actions determine that each of two areas has attained a Federal standard, and do not alter the relationship or the distribution of power and responsibilities established in the CAA. In addition, these rules do not have tribal implications as specified by Executive Order 13175 (65 FR 67249, November 9, 2000), because EPA notes that it will not impose substantial direct costs on tribal governments or preempt tribal law. These final rules also are not subject to Executive Order 13045 (62 FR 19885, April 23, 1997), because they are not economically significant.

These rules do not involve establishment of technical standards, and thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. These final rules do not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by September 23, 2008. Filing a petition for reconsideration by the Administrator of this final rule does not affect the finality of this action for the purposes of judicial review nor does it extend the time within which a petition for judicial review may be filed, and shall not postpone the effectiveness of such rule or action. This action that determines that the Philadelphia-Wilmington-Trenton and Metropolitan Washington, DC, severe zone nonattainment areas attained the 1-hour ozone NAAQS and are not required to impose section 185 penalty fees may not be challenged later in proceedings to enforce its requirements. (See section 307(b)(2).)

List of Subjects in 40 CFR Part 52

Environmental protection, Air pollution control, Intergovernmental relations, Incorporation by reference, Nitrogen dioxide, Ozone, Volatile organic compounds.

Dated: July 8, 2008.
Donald S. Welsh,
Regional Administrator, Region III.

PART 52—[AMENDED]

1. The authority citation for part 52 continues to read as follows:

Authority: 42 U.S.C. 7401 et seq.

Subpart I—Delaware

2. Section 52.426 is amended by adding paragraph (f) to read as follows:

§ 52.426 Control strategy plans for attainment and rate-of-progress: Ozone.

* * * * *

(f) Based upon EPA's review of the air quality data for the 3-year period 2003 to 2005, EPA has determined that the Philadelphia-Wilmington-Trenton severe 1-hour ozone nonattainment area attained the 1-hour ozone NAAQS by the applicable attainment date of November 15, 2005. EPA also has determined that the Philadelphia-Wilmington-Trenton severe 1-hour ozone nonattainment area is not subject to the imposition of the section 185 penalty fees.

Subpart J—District of Columbia

3. Section 52.476 is amended by adding paragraph (d) to read as follows:

§ 52.476 Control strategy: Ozone.

* * * * *

(d) Based upon EPA's review of the air quality data for the 3-year period 2003 to 2005, EPA has determined that the Washington severe 1-hour ozone nonattainment area attained the 1-hour ozone NAAQS by the applicable attainment date of November 15, 2005. EPA also has determined that the Washington severe 1-hour ozone nonattainment area is not subject to the imposition of the section 185 penalty fees.

Subpart V—Maryland

4. Section 52.1076 is amended by adding paragraphs (o) and (p) to read as follows:

§ 52.1076 Control strategy plans for attainment and rate-of-progress: Ozone.

* * * * *

(o) Based upon EPA's review of the air quality data for the 3-year period 2003 to 2005, EPA has determined that the Washington, DC severe 1-hour ozone nonattainment area attained the 1-hour ozone NAAQS by the applicable attainment date of November 15, 2005. EPA also has determined that the Washington, DC severe 1-hour ozone nonattainment area is not subject to the imposition of the section 185 penalty fees.

(p) Based upon EPA's review of the air quality data for the 3-year period 2003 to 2005, EPA has determined that that the Philadelphia-Wilmington-Trenton severe 1-hour ozone nonattainment area attained the 1-hour ozone NAAQS by the applicable attainment date of November 15, 2005. EPA also has determined that the Philadelphia-Wilmington-Trenton severe 1-hour ozone nonattainment area is not subject to the imposition of the section 185 penalty fees.

Subpart NN—Pennsylvania

5. Section 52.2037 is amended by adding paragraph (n) to read as follows:

§ 52.2037 Control strategy plans for attainment and rate-of-progress: Ozone.

* * * * *

(n) Based upon EPA's review of the air quality data for the 3-year period 2003 to 2005, EPA has determined that the Philadelphia-Wilmington-Trenton severe 1-hour ozone nonattainment area attained the 1-hour ozone NAAQS by the applicable attainment date of November 15, 2005. EPA also has determined that the Philadelphia-Wilmington-Trenton severe 1-hour ozone nonattainment area is not subject to the imposition of the section 185 penalty fees.

Subpart VV—Virginia

6. Section 52.2428 is amended by adding paragraph (e) to read as follows:

§ 52.2428 Control Strategy: Carbon monoxide and ozone.

* * * * *

(e) Based upon EPA's review of the air quality data for the 3-year period 2003 to 2005, EPA has determined that the Washington, DC severe 1-hour ozone nonattainment area attained the 1-hour ozone NAAQS by the applicable attainment date of November 15, 2005. EPA also has determined that the Washington, DC severe 1-hour ozone nonattainment area is not subject to the imposition of the section 185 penalty fees.

[FR Doc. E8-16475 Filed 7-24-08; 8:45 am]

BILLING CODE 6560-50-P